DEPARTMENT OF LABOR

Veterans' Employment and Training Service

41 CFR Part 61-250

RIN 1293-AA07

Annual Report From Federal Contractors

AGENCY: Veterans' Employment and Training Service (VETS), Labor.

ACTION: Final rule; correction.

SUMMARY: This document contains a correction to the final regulation which was published Thursday, October 11, 2001 (66 FR 51998-52008). The regulation pertains to annual reporting of efforts in hiring of targeted veterans by contractors and subcontractors.

EFFECTIVE DATE: This rule is effective November 13, 2001.

FOR FURTHER INFORMATION CONTACT: Norm Lance, Chief of Investigations and Compliance Division, VETS, at (202) 693-4731 or by e-mail at Lance-Norman@dol.gov. Individuals with hearing impairments may call (800) 670-7008 (TTY/TDD).

SUPPLEMENTARY INFORMATION:

Background

The final regulation that is the subject of this correction provides amended reporting procedures required of contractors and subcontractors to conform with the provisions of the Veterans' Employment Opportunities Act of 1998.

Need for Correction

As published, the final regulation contained an error which may prove to be misleading. The change below will correct the misleading language to conform to that used in the rest of the document, i.e., later in § 61-250.11(b) and in the preamble.

Correction of Publication

Accordingly, the publication of October 11, 2001, of the final regulation at 66 FR 51998-52008 is corrected as follows:

PART 61-250 [CORRECTED]

§ 61-250.11 [Corrected]

On page 52006, in the second column in § 61-250.11, the first sentence of paragraph (b) is corrected to read as follows:

* * * * *

(b) Contractors and subcontractors that submit computer-generated output for more than 10 hiring locations to satisfy their VETS-100 reporting obligations must submit the output in the form of an electronic file. * * *

* * * * *

Signed at Washington, DC, this 7th day of November, 2001.
Charles S. Ciccolella,
Deputy Assistant Secretary, Veterans' Employment and Training Service.

[FR Doc. 01-28433 Filed 11-9-01; 8:45 am]

BILLING CODE 4510-79-P